DEPARTMENT OF THE INTERIOR

Bureau of Land Management

[15X.LLAZ956000.L14200000.BJ0000.241A]

Notice of Filing of Plats of Survey; Arizona

AGENCY: Bureau of Land Management, Interior.

ACTION: Notice of Filing of Plats of Survey; Arizona.

SUMMARY: The plats of survey of the described lands were officially filed in the Arizona State Office, Bureau of Land Management, Phoenix, Arizona, on dates indicated.

SUPPLEMENTARY INFORMATION:

The Gila and Salt River Meridian, Arizona

The plat, in three sheets, representing the survey of a portion of the Ninth Standard Parallel North (south boundary), a portion of the Second Guide Meridian East (west boundary), the east and north boundaries, the subdivisional lines and the subdivision of certain sections, Township 37 North, Range 9 East, accepted June 11, 2014, and officially filed June 13, 2014, for Group 1121, Arizona.

This plat was prepared at the request of the Bureau of Indian Affairs.

The plat representing the survey of a portion of the Second Guide Meridian East (west boundary), the north boundary, the subdivisional lines and the subdivision of certain sections, Township 38 North, Range 9 East, accepted June 11, 2014, and officially filed June 13, 2014, for Group 1122, Arizona.

This plat was prepared at the request of the Bureau of Indian Affairs.

The plat, in two sheets, representing the survey of a portion of the Tenth Standard Parallel North through Township 41 North, Range 10 East (north boundary), the east boundary, the subdivisional lines, the subdivision of certain sections and the segregation of the Glen Canyon National Recreation Area, Township 40 North, Range 10 East, accepted May 14, 2014, and officially filed May 15, 2014, for Group 1118, Arizona.

This plat was prepared at the request of the Bureau of Indian Affairs.

The plat, in two sheets, representing the dependent resurvey of a portion of the Fifth Standard Parallel North (south boundary) and the west boundary, the survey of the east boundary, the subdivisional lines and the metes-and-bounds survey, Township 21 North, Range 12 East, accepted August 7, 2014, and officially filed August 11, 2014, for Group 1129, Arizona.

This plat was prepared at the request of the Bureau of Indian Affairs.

The plat representing the dependent resurvey of a portion of the Hopi—Navajo Partition Line, Segment “D”, and the survey of the Third Guide Meridian East (west boundary), the east and north boundaries, the subdivisional lines and the subdivision of certain sections, Township 34 North, Range 13 East, accepted September 12, 2014, and officially filed September 16, 2014, for Group 1125, Arizona.

This plat was prepared at the request of the Bureau of Indian Affairs.

The plat representing the dependent resurvey of a portion of the east boundary of the White Mountain Apache Indian Reservation, from milepost 3 1/2 to milepost 9, partially surveyed Township 5 North, Range 27 East, accepted June 17, 2014, and officially filed June 19, 2014, for Group 1108, Arizona.

This plat was prepared at the request of the United States Forest Service.

The plat representing the dependent resurvey of a portion of the subdivisional lines and the subdivision of sections 17 and 20, Township 7 North, Range 27 East, accepted July 30, 2014, and officially filed July 30, 2014, for Group 1108, Arizona.

This plat was prepared at the request of the United States Forest Service.

The plat representing the dependent resurvey of a portion of the east boundary of the White Mountain Apache Indian Reservation, unsurveyed Township 3 1/2 North, Range 28 East and unsurveyed Township 4 North, Range 27 1/2 East, accepted June 17, 2014, and officially filed June 19, 2014, for Group 1108, Arizona.

This plat was prepared at the request of the United States Forest Service.

The plat representing the dependent resurvey of a portion of the subdivisional lines and the subdivision of section 13, Township 6 North, Range 28 East, accepted July 30, 2014, and officially filed July 31, 2014, for Group 1108, Arizona.

This plat was prepared at the request of the United States Forest Service.

The plat representing the dependent resurvey of a portion of the subdivisional lines and the subdivision of certain sections, Township 7 North, Range 29 East, accepted July 28, 2014, and officially filed July 30, 2014, for Group 1108, Arizona.

This plat was prepared at the request of the United States Forest Service.

The plat representing the dependent resurvey of Homestead Entry Survey Number 595, unsurveyed Township 4 North, Range 30 East, accepted July 28, 2014, and officially filed July 30, 2014, for Group 1108, Arizona.

This plat was prepared at the request of the United States Forest Service.

The plat representing the dependent resurvey of Homestead Entry Survey Number 597, unsurveyed Township 4 North, Range 30 East, accepted July 28, 2014, and officially filed July 30, 2014, for Group 1108, Arizona.

This plat was prepared at the request of the United States Forest Service.

The plat, in two sheets, representing the dependent resurvey of the Yavapai-Prescott Indian Reservation (Whipple Barracks Military Addition) and the Yavapai Indian Reservation, Act of June 7, 1935, Public Law 117, 74th Congress, 49 Stat. 332, the metes-and-bounds survey of the Whipple Veterans Administration Reservation boundary, the survey of lots 7 and 8, block 6 of the Dameron Park Addition and the completion survey of the subdivisional lines within the Yavapai-Prescott Indian Reservation, Township 14 North, Range 2 West, accepted May 16, 2014, and officially filed May 19, 2014, for Group 1116, Arizona.

This plat was prepared at the request of the Bureau of Indian Affairs.

The plat representing the dependent resurvey of a portion of the subdivisional lines, the subdivision of section 10 and the metes-and-bounds survey of a portion of the North Santa Teresa Wilderness boundary within the northwest quarter of section 10, Township 6 South, Range 21 East, accepted July 8, 2014, and officially filed July 10, 2014, for Group 1132, Arizona.

This plat was prepared at the request of the Bureau of Land Management.

The plat representing the survey of the subdivision of the southwest quarter of the northeast quarter of the southwest quarter of section 8, Township 7 South, Range 27 East, accepted July 8, 2014, and officially filed July 10, 2014, for Group 1119, Arizona.

This plat was prepared at the request of the Bureau of Land Management.

A person or party who wishes to protest against any of these surveys must file a written protest with the Arizona State Director, Bureau of Land Management, stating that they wish to protest.

A statement of reasons for a protest may be filed with the notice of protest to the State Director, or the statement of reasons must be filed with the State Director within thirty (30) days after the protest is filed.

FOR FURTHER INFORMATION CONTACT: These plats will be available for inspection in the Arizona State Office, Bureau of Land Management, One North Central Avenue, Suite 800, Phoenix, Arizona 85004-4427. Persons who use a telecommunications device for the deaf (TDD) may call the Federal Information Relay Service (FIRS) at 1-800-877-8339 to contact the above individual during normal business hours. The FIRS is available 24 hours a day, 7 days a week, to leave a message or question with the above individual. You will receive a reply during normal business hours.

Gerald T. Davis,
Chief Cadastral Surveyor of Arizona.

[FR Doc. 2014-24997 Filed 10-20-14; 8:45 am]

BILLING CODE 4310-32-P